DEPARTMENT OF THE INTERIOR

Fish and Wildlife Service

Information Collection Submitted to the Office of Management and Budget (OMB) for Approval under the Paperwork Reduction Act; Federal Fish and Wildlife Permit Application; Native Endangered and Threatened Species

AGENCY: Fish and Wildlife Service, Interior.

ACTION: Notice; request for comments.

SUMMARY: The U.S. Fish and Wildlife Service has submitted the collection of information described below to OMB for approval under the provisions of the Paperwork Reduction Act of 1995. A description of the information collection requirement is included in this notice. If you wish to obtain copies of the proposed information collection requirement, related forms, or explanatory material, contact the Service Information Collection Clearance Officer at the address or telephone number listed below.

DATES: OMB has up to 60 days to approve or deny information collection but may respond after 30 days. Therefore, to ensure maximum consideration, you must submit comments on or before August 23, 2004.

ADDRESSES: Submit your comments on the information collection requirement to the Desk Officer for the Department of the Interior at OMB-OIRA via fax at (202) 395-6566; or via e-mail at OIRA_DOCKET@omb.eop.gov. Also, please submit a copy of your comments to the Fish and Wildlife Service's Information Collection Clearance Officer via mail at: Information Collection Clearance Officer, U.S. Fish and Wildlife Service, 4401 North Fairfax Drive, Mail Stop 222-ARLSQ, Arlington, Virginia 22203; or via fax at (703) 358-2269; or via e-mail at Anissa_Craghead@fws.gov.

FOR FURTHER INFORMATION CONTACT: To request a copy of the information collection requirement, explanatory information, or related forms, contact Anissa Craghead, Information Collection Clearance Officer by telephone at (703) 358-2445, or by e-mail at Anissa_Craghead@fws.gov. You may also contact Mary Klee, Endangered Species Program, by telephone at (703) 358-2061 or by e-mail at Mary_Klee@fws.gov.

SUPPLEMENTARY INFORMATION: The Endangered Species Act (ESA) provides for the protection of listed species through establishment of programs for their recovery and through prohibition of harmful activities. The ESA also provides for a number of exceptions to its prohibitions against “take” of listed species. Under sections 6 and 10 of the ESA, regulations have been promulgated at 50 CFR 17.22 (endangered wildlife species), 17.32 (threatened wildlife species), 17.62 (endangered plant species), and 17.72 (threatened plant species) to guide implementation of these exceptions to the “take” prohibitions through permitting programs. The U.S. Fish and Wildlife Service's general permit regulations can be found at 50 CFR 13. Take authorized under this permit program would otherwise be prohibited by the ESA. The permit issuance criteria are designed to ensure that the requirements of the ESA are met, i.e., that conduct of the requested actions and issuance of the permit will enhance the survival of the species.

The Office of Management and Budget (OMB) regulations at 5 CFR 1320, which implement provisions of the Paperwork Reduction Act of 1995 (44 U.S.C. 3501 et seq.), require that interested members of the public and affected agencies have an opportunity to comment on information collection and recordkeeping activities (see 5 CFR 1320.8(d)). The U.S. Fish and Wildlife Service (we) have submitted a request to OMB to renew its existing approval of the collection of information for Native Endangered and Threatened Species Permit Applications, OMB control number 1018-0094, which expires on July 31, 2004. We are requesting a 3-year term of approval for this information collection activity. We may not conduct or sponsor, and you are not required to respond to, a collection of information unless it displays a currently valid OMB control number.

A previous 60-day notice on this information collection requirement was published in the Federal Register on April 9, 2004 (69 FR 18924) inviting public comment. In addition to publishing a Federal Register notice, we sent surveys to 9 permittees and asked them to review the forms relating to the permits they hold and comment on the clarity and relevance of the information collection, the burden associated with the collection, and whether there is something the Service could do to minimize the burden. We received a total of 7 comments, 1 comment on the Federal Register notice and 6 comments on the survey. Three of the comments were from individuals and four of the comments were from organizations.

We received one comment on the previous Federal Register notice from an individual. The commenter opposed the information collection and suggested that we should eliminate the permit application forms. We will continue to use the permit application forms because the information collection in the forms is necessary in order to satisfy public requests for permits. Elimination of this information collection would result in the Service's inability to respond to permit requests.

Six of the 9 permittee surveys were completed and returned to us. The comments we received on the application forms were very favorable. Respondents believed the forms were easily available, and the instructions were clear. Their burden hour estimates for completing the permit application forms and annual reports were generally within the numerical range of estimates provided by our Regions, and within the Service's estimated national averages.

One respondent for form 3-200-54 (Enhancement of Survival) suggested we develop guidelines for permit applicants on determining the baseline conditions and habitat enhancement/restoration practices. They also suggested that these guidelines should be based on different groups of species because the baseline conditions for a large mammal is quite different than that of an amphibian. We will forward this suggestion to our permit staff.

One respondent for form 3-200-55 (Recovery and Interstate Commerce) suggested that we include an example of a completed permit application to show the level of detail desired. They also suggested that we send a reminder letter when a permit is going to expire. We already have such a letter that can be automatically generated from a query in our permit database. We will forward this suggestion to our permit staff and prompt them to send out the reminder letters.

The respondents' varying estimates for the burden hours for form 3-200-56 (Incidental Take) was due to the fact that their permitted activities had varying complexities. For example, one respondent may have two complex, multi-species Habitat Conservation Plans while another respondent may have a simple, low impact HCP. The information collection burden of the permit application for a complex action will naturally be greater than the burden for a simple action due to the need to comply with additional permit application requirements such as preparing an Environmental Impact Statement under the National Environmental Policy Act. In addition, the annual report for a complex activity will need to contain more information than the annual report for a simple action. Another respondent commented that form 3-200-56 was unclear as to what type of map would be acceptable. As a result of this comment, the map requirements were clarified. Another comment on form 3-200-56 was that the frequency for annual reports was too high and that we should request only one annual report. Since form 3-200-56 currently authorizes many long-term activities (some activities for up to 100 years), in order to manage the permitted activities we need more than one annual report over the life of the permit. Another comment suggested that we provide guidance on the format of the annual report. Since the permitted activities vary greatly in both complexity and the number of species covered, there is no standardized format for annual reports. However, we will forward this suggestion for additional guidance to our permit staff.

One respondent commented that the permit application fee of $25 for form 3-200-56 was insignificant compared to the cost of preparing and submitting the information required in the application. They recommended that the fee should be eliminated. The Service as a whole is evaluating its permit application fees, and on August 26, 2003 (68 FR 51222), we published a proposed rule to increase our permit application fees. We are proposing to revise the standard permit application fee, designated under title 50 of the Code of Federal Regulations (CFR) at § 13.11(d)(4), which has not been revised since 1982, in order to recoup more of the costs associated with providing permitting services. The fee increase is being proposed under the Federal user fee policy in OMB Circular No. A-25, which requires Federal agencies to recoup the costs of special services that provide benefits to identifiable recipients.

The information provided in these three application forms (3-200-54, 3-200-55, 3-200-56) is used by the Regional Endangered Species Permit Offices to evaluate requests for permits. Part of the permit evaluation process includes soliciting comments from our Field Offices or other offices within the Service, from other Federal agencies, and/or State or governments. If the permit requested involves endangered wildlife, the completed permit application may be reviewed by the public as well. Our permit regulations at 50 CFR 17.22 require us to publish a Federal Register notice and allow the public 30 days to comment on permit applications for requested activities impacting endangered wildlife. The information collection requirements in this submission implement the regulatory requirements of the Endangered Species Act (16 U.S.C. 1539), the Migratory Bird Treaty Act (16 U.S.C. 704), and the Bald Eagle Protection Act (16 U.S.C. 668), and the Marine Mammal Protection Act (16 U.S.C. 1374) contained in Service regulations in Chapter I, Subchapter B of Title 50 of the CFR.

The information to be supplied on the application form and the attachments will be used to review the application and allow the Service to make decisions, according to criteria established in various Federal wildlife conservation statutes and regulations on the issuance, suspension, revocation, or denial of permits. The obligation to respond is required to obtain a benefit, in this instance to receive a permit. We have revised the following requirements, and they are included in this submission:

1. Title: Native Endangered and Threatened Species—Enhancement of Survival Permits associated with Safe Harbor Agreements, and Candidate Conservation Agreements with Assurances.

Approval Number: 1018-0094.

Service Form Number: 3-200-54.

Frequency of Collection: Annually.

Description of Respondents: Individuals, households, businesses, State agencies, private organizations.

Total Annual Burden Hours: The reporting burden is estimated to average 3 hours per respondent for the application and 8 hours per respondent for the annual report of permitted activities. The Total Annual Burden hour is 66 hours for the application and 424 hours for the annual report on the permitted activities.

Total Annual Responses: The number of respondents is estimated to average 22 respondents for the application and 53 for the annual report of the permitted activities.

Background Explanation: Regulations have been promulgated at 17.22(c) and (d) for endangered wildlife species and 17.32(c) and (d) for threatened wildlife species to guide implementation of these permitting programs for Enhancement of Survival permits associated with Safe Harbor Agreements and with Candidate Conservation Agreements with Assurances under section 10(a)(1)(A) of the ESA. Service form 3-200-54 was developed to facilitate collection of information required by these regulations.

An Enhancement of Survival permit authorizes incidental take that may occur under the Safe Harbor Agreement or Candidate Conservation Agreement with Assurances. Under the Safe Harbor policy, non-Federal property owners who voluntarily enter into a Safe Harbor Agreement for implementation of conservation measures for listed species will receive assurances from the Service that additional regulatory restrictions will not be imposed beyond those existing at the time of the Agreement. Under the Candidate Conservation Agreements with Assurances policy, non-Federal property owners who voluntarily enter into such an Agreement for implementation of conservation measures for species proposed for listing, species that are candidates for listing, or species that are likely to become candidates in the near future will receive assurances from the Service that additional conservation measures will not be required and additional regulatory restrictions will not be imposed should the species become listed in the future.

2. Title: Native Endangered and Threatened Species—Permits for Scientific Purposes, Enhancement of Propagation or Survival (i.e., Recovery Permits) and Interstate Commerce.

Approval Number: 1018-0094.

Service Form Number: 3-200-55.

Frequency of Collection: Annually.

Description of Respondents: Individuals, scientific and research institutions.

Total Annual Burden Hours: The reporting burden is estimated to average 4 hours per respondent for the application and 8 hours per respondent for the annual report on the permitted activities. The Total Annual Burden hours is 3,280 hours for the application and 11,680 hours for the annual report on the permitted activities.

Total Annual Responses: The number of respondents is estimated to average 820 respondents for the application and 1,460 respondents for the annual report of the permitted activities.

Background Explanation: Regulations have been promulgated at 17.22(a) for endangered wildlife species, 17.32(a) for threatened wildlife species, 17.62 for endangered plant species, and 17.72 for threatened plant species to guide implementation of these permitting programs for Recovery and Interstate Commerce permits under section 10(a)(1)(A) of the ESA. Service form 3-200-55 was developed to facilitate collection of information required by these regulations. Recovery permits allow “take” of listed species as part of scientific research and management actions, enhancement of propagation or survival, zoological exhibition, educational purposes, or special purposes consistent with the ESA designed to benefit the species involved. Interstate Commerce permits allow transport and sale of listed species across State lines as part of breeding programs enhancing the survival of the species. Detailed descriptions of the proposed taking, its necessities for success of the proposed action, and benefits to the species resulting from the proposed action are required under the implementing regulations cited above.

3. Title: Native Endangered and Threatened Species—Incidental Take Permits Associated With a Habitat Conservation Plan.

Approval Number: 1018-0094.

Service Form Number: 3-200-56.

Frequency of Collection: Annually.

Description of Respondents: Individuals, households, businesses, local and State agencies.

Total Annual Burden Hours: The reporting burden is estimated to average 3 hours per respondent for the application and 20 hours per respondent for the annual report on the permitted activities. The Total Annual Burden hours is 288 hours for the application and 4,020 hours for the annual report on the permitted activities.

Total Annual Responses: The number of respondents is estimated to be 96 respondents for the application and 201 respondents for the annual report of the permitted activities.

Background Explanation: Regulations have been promulgated at 17.22(b) for endangered wildlife species and 17.32(b) for threatened wildlife species to guide implementation of these permitting programs for Incidental Take permits associated with a Habitat Conservation Plan under section 10(a)(1)(B) of the ESA. Form number 3-200-56 was developed to facilitate collection of information required by these regulations. These permits allow “take” of listed species that is incidental to otherwise lawful non-Federal actions. The Service's Incidental Take permit program provides a flexible process for addressing situations in which a property owner's otherwise lawful activities might result in incidental take of a listed species. The Incidental Take permit program's major strength is that it provides a process that readily allows the development of local solutions to wildlife conservation as an alternative to comprehensive Federal regulation. Local entities and private landowners are given assurances that they will not be required to make additional commitments of land, water, or money; or be subject to additional restrictions on the use of land, water, or other natural resources for species adequately covered by a properly implemented Habitat Conservation Plan.

We again invite comments concerning this information collection on: (1) Whether the collection of information is necessary for the proper performance of our native endangered and threatened species management functions, including whether the information will have practical utility; (2) the accuracy of our estimate of the burden of the collection of information; (3) ways to enhance the quality, utility, and clarity of the information to be collected; and, (4) ways to minimize the burden of the collection of information on respondents. The information collections in this program are part of a system of records covered by the Privacy Act (5 U.S.C. 552(a)).

Dated: June 18, 2004.
Anissa Craghead,
Information Collection Clearance Officer.

[FR Doc. 04-16754 Filed 7-21-04; 8:45 am]

BILLING CODE 4310-55-P